NUCLEAR REGULATORY COMMISSION

[Docket No. 70-143]

Notice of Issuance of License Amendment 51 for Nuclear Fuel Services, Inc., Blended Low-Enriched Uranium Processing Facility, Erwin, TN

AGENCY: Nuclear Regulatory Commission.

ACTION: Notice of issuance of Amendment 51 to Materials License SNM-124.

FOR FURTHER INFORMATION CONTACT: Michael Lamastra, Fuel Cycle Facilities Branch, Division of Fuel Cycle Safety and Safeguards, Office of Nuclear Material Safety and Safeguards, U.S. Nuclear Regulatory Commission, Mail Stop T8 F42, Washington, DC 20555-0001, Telephone (301) 415-8139 or via email to mxl2@nrc.gov.

SUPPLEMENTARY INFORMATION:

I. Introduction

Pursuant to 10 CFR 2.106, the U.S. Nuclear Regulatory Commission (NRC) is providing notice of the issuance of Amendment 51 to Special Nuclear Materials License SNM-124 to Nuclear Fuel Services, Inc. (NFS) authorizing the possession and use of special nuclear material in the Blended Low-Enriched Uranium Oxide Conversion Building and Effluent Processing Building at the licensee's site in Erwin, Tennessee. NFS' request for the proposed action was previously noticed in the Federal Register on December 24, 2003 (68 FR 74653), along with a notice of opportunity to request a hearing.

This amendment complies with the standards and requirements of the Atomic Energy Act of 1954, as amended, and NRC's rules and regulations as set forth in 10 CFR chapter 1. Accordingly, this amendment was issued on July 30, 2004, and was effective immediately.

II. Further Information

The NRC has prepared a non-proprietary (public) version of the Safety Evaluation Report (SER) that documents the information that was reviewed and NRC's conclusion. In accordance with 10 CFR 2.390 of the NRC's “Rules of Practice,” details with respect to this action, including the non-proprietary version of the SER and accompanying documentation included in the license amendment package, are available for inspection at the NRC's Public Electronic Reading Room at http://www.nrc.gov/reading-rm/adams.html (ADAMS accession number ML042660436). These documents may also be viewed electronically on the computers located at the NRC Public Document Room (PDR), O1F21 One White Flint North, 11555 Rockville Pike, Rockville, MD 20852. The PDR reproduction contractor will copy documents for a fee. Persons who do not have access to ADAMS should contact the NRC PDR Reference Staff by telephone at 1 (800) 397-4209 or (301) 415-4737, or via e-mail to pdr@nrc.gov.

Dated at Rockville, Maryland, this 4th day of October, 2004.
For the Nuclear Regulatory Commission.
John Lubinski,
Chief, Fuel Manufacturing Section, Fuel Cycle Facilities Branch, Division of Fuel Cycle Safety and Safeguards, Office of Nuclear Material Safety and Safeguards.

[FR Doc. 04-22785 Filed 10-8-04; 8:45 am]

BILLING CODE 7590-01-P